DEPARTMENT OF AGRICULTURE

Submission for OMB Review; Comment Request

October 19, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 23, 2016 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Mangoes from India

OMB Control Number: 0579-0312

Summary of Collection: Under the Plant Protection Act (7 U.S.C. 7701 et seq), the Secretary of Agriculture is authorized to carry out operations or measures to detect, eradicate, suppress, control, prevent, or retard the spread of plant pests new to the United States or not known to be widely distributed throughout the United States. The Animal and Plant Health Inspection Service (APHIS) regulates the importation of fruits and vegetables into the continental United States from certain parts of the world as provided in “subpart-Fruit and Vegetables” (7 CFR 319.56-1 through 319.56-75). In accordance with these regulations, mangoes from India may be imported into the United States only under certain conditions to prevent the introduction of plant pests into the United States.

Need and Use of the Information: APHIS amended the fruits and vegetables regulations to allow the importation into the continental United States of mangoes from India under certain conditions. As a condition of entry, the mangoes have to undergo irradiation treatment and be accompanied by a phytosanitary certificate with additional declaration statement providing specific information regarding the treatment and inspection of the mangoes and the orchards in which they were grown. The additional information collection activities include a preclearance workplan, trust fund agreement, compliance agreement, monitoring of inspections, orchard mutual agreement, irradiation treatment package labeling, recordkeeping, treatment certification, and denial and withdrawal certification. Failure to collect this information would greatly hinder APHIS' ability to ensure that mangoes from India are not carrying plant pests.

Description of Respondents: Business or other for-profit; Federal Government (Foreign)

Number of Respondents: 75

Frequency of Responses: Recordkeeping; Reporting: On occasion

Total Burden Hours: 1,710

Ruth Brown,
Departmental Information Collection Clearance Officer.

[FR Doc. 2016-25617 Filed 10-21-16; 8:45 am]

BILLING CODE 3410-34-P